NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 20, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001. E-mail: records.mgt@nara.gov. FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-03-5, 3 items, 3 temporary items). Inputs, outputs, master files, and documentation associated with an electronic web-based system used in connection with the information technology and information management planning process. Also included are electronic copies of records created using electronic mail and word processing.

2. Department of the Army, Agency-wide (N1-AU-04-3, 9 items, 9 temporary items). Records relating to the Army correctional system. Included are such records as logs documenting activities at confinement facilities, statistical reports, prisoner rosters, clothing requisitions, and files relating to prisoners' personal property and funds. Also included are electronic copies of documents created using electronic mail and word processing. This schedule modifies the retention periods of these records, which were previously approved for disposal. This schedule also authorizes the agency to apply the proposed disposition instructions to any recordkeeping medium.

3. Department of Health and Human Services, Centers for Disease Control and Prevention (N1-442-04-1, 1 item, 1 temporary item). Case files created under the Energy Employees Occupational Illness Compensation Program Act. Included are paper and electronic versions of such records as claim forms, site profiles, correspondence, and other records collected to create a dose reconstruction report.

4. Department of Health and Human Services, Centers for Medicare and Medicaid Services (N1-440-04-1, 6 items, 5 temporary items). Consent forms, audio/video tapes, and other consumer research records that are accumulated by the Center for Beneficiary Choices. Also included are electronic copies of records created using electronic mail and word processing. Proposed for permanent retention are recordkeeping copies of final reports.

5. Department of Homeland Security, Transportation Security Administration (N1-560-03-8, 13 items, 13 temporary items). Statistical reports, policy and planning files, annuity offset waiver forms, retirement records and other records accumulated by the Office of Human Resources. Also included are electronic copies of records created using electronic mail and word processing.

6. Department of Justice, Office of Justice Programs (N1-423-04-1, 3 items, 3 temporary items). Briefing materials collected by the Office for Victims of Crime for victims of terrorism or mass violence and/or their families. Also included are electronic copies of records created using word processing and electronic mail.

7. Small Business Administration, Office of the Chief Financial Officer (N1-309-04-05, 6 items, 6 temporary items). Inputs, outputs, master files, backups, and documentation associated with an electronic system used in connection with agency cash collection activities. Also included are electronic copies of documents created using word processing and electronic mail.

Dated: June 25, 2004.
Michael J. Kurtz,
Assistant Archivist for Records Services—Washington, DC.

[FR Doc. 04-15141 Filed 7-2-04; 8:45 am]

BILLING CODE 7515-01-P